DEPARTMENT OF EDUCATION

[Docket No.: ED-2020-SCC-0124]

Agency Information Collection Activities; Comment Request; Education Stabilization Fund— Elementary and Secondary School Emergency Relief Fund (ESSER) Recipient Data Collection Form

AGENCY: Office of Elementary and Secondary Education (OESE), Department of Education (ED).

ACTION: Notice.

SUMMARY: In accordance with the Paperwork Reduction Act of 1995, ED is proposing a new information collection.

DATES: Interested persons are invited to submit comments on or before September 28, 2020.

ADDRESSES: To access and review all the documents related to the information collection listed in this notice, please use http://www.regulations.gov by searching the Docket ID number ED-2020-SCC-0124. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance, Governance and Strategy Division, U.S. Department of Education, 400 Maryland Ave. SW, LBJ, Room 6W208D, Washington, DC 20202-8240.

FOR FURTHER INFORMATION CONTACT: For specific questions related to collection activities, please contact Gabriella Tanner, 202-453-6129, or email esserf@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Education Stabilization Fund—Elementary and Secondary School Emergency Relief Fund (ESSER) Recipient Data Collection Form.

OMB Control Number: 1810-NEW.

Type of Review: A new information collection.

Respondents/Affected Public: State, Local and Tribal Organizations.

Total Estimated Number of Annual Responses: 14,656.

Total Estimated Number of Annual Burden Hours: 44,248.

Abstract: This information collection supports the annual collection of data pertaining to the uses of funds under the Elementary and Secondary School Emergency Relief Fund (ESSER Fund). The Department ESSER awards grants to State educational agencies (SEAs) and analogous grants to Outlying Areas for the purpose of providing local educational agencies (LEAs), including charter schools that are LEAs, with emergency relief funds to address the impact that Novel Coronavirus Disease 2019 (COVID-19) has had, and continues to have, on elementary and secondary schools across the nation. LEAs must provide equitable services to students and teachers in non-public schools as required under the Coronavirus Aid, Relief, and Economic Security Act (CARES Act). The information will be reviewed by Department employees to ensure that ESSER funds are used in accordance with Sec. 18003(d) of the CARES Act and will be shared with the public to promote transparency regarding the allocation and uses of funds.

ESSER Reporting Requirements: Data collected through this information collection will inform Department monitoring and oversight, and public reporting and is in addition to reporting already required under the Federal Funding Accountability and Transparency Act of 2006 (FFATA), Public Law 109-282, as amended by the Digital Accountability and Transparency Act (DATA Act), Public Law 113-101.

ESSER Reporting Timeframe: The anticipated reporting periods and associated deadlines for this information collection are as follows:

The First Annual Report is due on January 29, 2021 and applies to the reporting period from March 13, 2020 through September 30, 2020. The Second Annual Report is due on January 31, 2022 and applies to the reporting period from October 1, 2020 through September 30, 2021. The Third Annual Report is due on March 1, 2023 and applies to the reporting period from October 1, 2021 through December 31, 2022.

Directed Questions: The Department requests input from data submitters and stakeholders on the following directed questions. Please note that in addition to these questions, public comments are encouraged on all of the changes proposed. While these questions are directed to SEA data submitters, comments from all stakeholders on these topics are welcome.

(1) What data in this form will be difficult to collect or report and why? Are there changes that could be made to improve the quality of the data or reduce the burden? What are the overall challenges to reporting these data on an annual basis?

(2) The Department is interested in reducing the burden of data collection and making use of existing data when at all possible. For example, are the proposed data on LEAs available in State data systems? If data are not available in the State data system, is it feasible for States to collect these data from LEAs that received ESSER funding?

(3) Are the proposed data on student participation and engagement during remote learning currently being tracked by LEAs or SEAs? Are the proposed methods to document student participation and engagement during remote learning reliable? Are there additional methods used by LEAs to document student participation and engagement during remote learning?

(4) Are SEAs and LEAs able determine to what proportion of students within the LEA had internet access (school or family provided internet access) at home?

(5) Will the proposed method for collecting the number of FTE positions created or retained as a result of ESSER funds awarded to the SEA yield accurate data? Is there an alternative methodology that would improve the accuracy of the data?

(6) What changes should be made to the form to accommodate data collection from the Outlying Areas of the United States, specifically: The US Virgin Islands (VI), Guam (GU), the Commonwealth of the Northern Mariana Islands (CNMI), and American Samoa (AS)?

Dated: July 24, 2020.
Kate Mullan,
PRA Coordinator, Strategic Collections and Clearance Governance and Strategy Division, Office of Chief Data Officer, Office of Planning, Evaluation and Policy Development.

[FR Doc. 2020-16445 Filed 7-28-20; 8:45 am]

BILLING CODE 4000-01-P